DEPARTMENT OF AGRICULTURE

Animal and Plant Health Inspection Service

[Docket No. APHIS-2014-0025]

Notice of Request for Approval of an Information Collection; Information Technology Account Management

AGENCY: Animal and Plant Health Inspection Service, USDA.

ACTION: New information collection; comment request.

SUMMARY: In accordance with the Paperwork Reduction Act of 1995, this notice announces the Animal and Plant Health Inspection Service's (APHIS') intention to request approval of a new information collection for information technology account management to ensure the security of APHIS systems from unauthorized access.

DATES: We will consider all comments that we receive on or before July 15, 2014.

ADDRESSES: You may submit comments by either of the following methods:

• Federal eRulemaking Portal: Go to http://www.regulations.gov/#!docketDetail;D=APHIS-2014-0025.

• Postal Mail/Commercial Delivery: Send your comment to Docket No. APHIS-2014-0025, Regulatory Analysis and Development, PPD, APHIS, Station 3A-03.8, 4700 River Road, Unit 118, Riverdale, MD 20737-1238.

Supporting documents and any comments we receive on this docket may be viewed at http://www.regulations.gov/#!docketDetail;D=APHIS-2014-0025 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on information technology account management, contact Mr. Rajiv Sharma, ISSPM, ITD, ISB, MRPBS, APHIS, 4700 River Road, Unit 102, Riverdale, MD 20737; (301) 851-2551. For copies of more detailed information on the information collection, contact Mrs. Celeste Sickles, APHIS' Information Collection Coordinator, at (301) 851-2908.

SUPPLEMENTARY INFORMATION: Title: Information Technology Account Management.

OMB Control Number: 0579-XXXX.

Type of Request: Approval of a new information collection.

Abstract: The Federal Information Security Management Act of 2002 requires implementation of account management using the National Institute of Standards and Technology (NIST) criteria and guidelines to protect Federal systems from unauthorized access by employees, contractors, and cooperators who may or may not be paid by the Federal Government.

In accordance with the NIST Special Publication 800-53 (Revision 3) titled “Recommended Security Controls for Federal Information Systems and Organizations,” account management control has two key requirements. These requirements are agency approval of requests for establishing accounts and regular review of these accounts by the agency.

The U.S. Department of Agriculture's Animal and Plant Health Inspection Service (APHIS) collects and maintains information to meet the NIST requirements, and within APHIS, the authority to meet these requirements has been delegated to information technology system owners and/or system administrators. Information that is required to meet the NIST requirements includes the name of the person requesting access; access privileges or type of access needed (read, write, and/or edit); the name of the person's organization or company, if applicable; the contact information of the person requesting access, such as work telephone number and work email address; equipment or device type, such as personal computer or laptop, if non-APHIS equipment or device is used; the equipment operating system; installed antivirus and antispyware software; and the date access requests are approved. This information is collected using information collection activities, including APHIS Form 513 or digital equivalent (APHIS User Account Control Form), APHIS Form 514 or digital equivalent (APHIS Data Center Access Control Form), and APHIS Form 516 or digital equivalent (APHIS Remote Access Control Form).

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.0847 hours per response.

Respondents: APHIS contractors, partners, and other stakeholders.

Estimated annual number of respondents: 236.

Estimated annual number of responses per respondent: 1.

Estimated annual number of responses: 236.

Estimated total annual burden on respondents: 20 hours. (Due to averaging, the total annual burden hours may not equal the product of the annual number of responses multiplied by the reporting burden per response.)

All responses to this notice will be summarized and included in the request for OMB approval. All comments will also become a matter of public record.

Done in Washington, DC, this 12th day of May 2014.
Kevin Shea,
Administrator, Animal and Plant Health Inspection Service.

[FR Doc. 2014-11272 Filed 5-15-14; 8:45 am]

BILLING CODE 3410-34-P